DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

On January 18, 2001, we published a notice in the Federal Register to invite written comments on accrediting agencies that had submitted interim reports for review by Advisory Committee at their May 23-25, 2001 meeting. The Accrediting Commission of Career Schools and Colleges of Technology was inadvertently omitted from the list of accrediting agencies in our January 18, 2001 notice. This notice invites written comments on the interim report submitted by the Accrediting Commission of Career Schools and Colleges of Technology that will be reviewed at the Advisory Committee meeting to be held on May 23-25, 2001.

Where Should I Submit My Comments?

Please submit your written comments by May 4, 2001 to Carol Griffiths, Chief, Accrediting Agency Evaluation, Accreditation and State Liaison. You may contact her at the U.S. Department of Education, 1990 K Street, NW, 7th Floor, Room 7105, Washington, DC 20006-8509, telephone: (202) 219-7011. Individuals who use a telecommunications device for the deaf (TDD) may call the Federal Information Relay Service at 1-800-877-8339.

What Is the Authority for the Advisory Committee?

The National Advisory Committee on Institutional Quality and Integrity is established under section 114 of the Higher Education Act (HEA), as amended, 20 U.S.C. 1011c. One of the purposes of the Advisory Committee is to advise the Secretary of Education on the recognition of accrediting agencies and State approval agencies.

Will This Be My Only Opportunity To Submit Written Comments?

Yes, this notice announces the only opportunity you will have to submit written comments. However, another Federal Register notice will announce the meeting and invite individuals and/or groups to submit requests to make oral presentations before the Advisory Committee on the agencies that the Committee will review. That notice, however, does not offer an opportunity to submit written comment.

What Happens to the Comments That I Submit?

We will review your comments, in response to this notice, as part of our evaluation of the Accrediting Commission of Career Schools and Colleges of Technology's compliance with the Secretary's Criteria for Recognition of Accrediting Agencies. The Criteria are regulations found in 34 CFR part 602 (for accrediting agencies). We will also respond to your comments, as appropriate, in the staff analysis we present to the Advisory Committee at its May 2001 meeting. Therefore, in order for us to give full consideration to your comments, it is important that we receive them by May 4, 2001. In all instances, your comments regarding the Accrediting Commission of Career Schools and Colleges of Technology must relate to the Criteria for the Recognition cited in the Secretary's letter that requested the interim report. You may obtain a copy of the Secretary's letter by calling (202) 219-7011.

What Happens to Comments Received After the Deadline?

We will treat any negative comments received after the deadline as complaints. If such comments, upon investigation, reveal that the accrediting agency is not acting in accordance with the Criteria for Recognition, we will take action either before or after the meeting, as appropriate. We will also notify the commentors of the disposition of those comments.

Where Can I Inspect Petitions and Third-Party Comments Before and After the Meeting?

Subject to the provisions of 5 U.S.C. 522, petitions, interim reports, and those third-party comments received in advance of the meeting, will, upon written request, be made available, on appointment, for inspection and copying at the U.S. Department of Education, 1990 K Street, NW, 7th Floor, Room 7105, Washington, DC 20006-8509, telephone (202) 219-7011 until May 4, 2001. They will be available again after the May 23-25 Advisory Committee meeting.

Authority: 5 U.S.C. Appendix 2.

Maureen A. McLaughlin,
Deputy Assistant Secretary for Policy, Planning, and Innovation, Office of Postsecondary Education.

[FR Doc. 01-7965 Filed 3-30-01; 8:45 am]

BILLING CODE 4000-01-P